DEPARTMENT OF AGRICULTURE

Submission for OMB Review; Comment Request

December 21, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Bovine Brucellosis Class Free State and Certified Brucellosis-Free Herds; Revisions to Testing and Certification Requirements.

OMB Control Number: 0579-NEW.

Summary of Collection: The Animal Health Protection Act (AHPA) of 2002 is the primary Federal law governing the protection of animal health. The law gives the Secretary of Agriculture board authority to detect, control, or eradicate pests or diseases of livestock or poultry. The Secretary may also prohibit or restrict import or export of any animal or related material if necessary to prevent the spread of any livestock or poultry pest or disease. In connection with this mission, Veterinary Services (VS) participates in the Cooperative State-Federal Bovine Brucellosis Eradication Program, a national program to eliminate bovine brucellosis from the United States. Brucellosis is an infectious disease, caused by bacteria of the genus Brucella that affect both animals and humans.

Need and Use of the Information: The Animal and Plant Health Inspection Service (APHIS) will collect information using the brucellosis management plan and the Memorandum of Understanding. The information provided by these documents is critical to APHIS' mission to prevent the introduction or spread of bovine brucellosis. Failure to collect this information would cripple APHIS' ability to conduct an effective State-Federal Cooperative Brucellosis Eradication Program.

Description of Respondents: State, Local or Tribal Government.

Number of Respondents: 3.

Frequency of Responses: Reporting: Annually.

Total Burden Hours: 1,800.

Ruth Brown,
Departmental Information Collection Clearance Officer.

[FR Doc. 2011-33210 Filed 12-27-11; 8:45 am]

BILLING CODE 3410-34-P